DEPARTMENT OF COMMERCE

National Oceanic and Atmospheric Administration

RIN 0648-XF302

Fisheries of the South Atlantic; South Atlantic Fishery Management Council; Public Meetings

AGENCY: National Marine Fisheries Service (NMFS), National Oceanic and Atmospheric Administration (NOAA), Commerce.

ACTION: Notice of public meetings of the South Atlantic Fishery Management Council's (Council) Snapper Grouper, Mackerel Cobia and Cobia Sub-Panel, and Dolphin Wahoo Advisory Panels (AP).

SUMMARY: The Council will hold meetings of its Snapper Grouper AP, Mackerel Cobia and Cobia Subpanel AP and Dolphin Wahoo AP from April 17-21, 2017 in Charleston, SC. See SUPPLEMENTARY INFORMATION.

DATES: The Snapper Grouper AP meeting will be held on Monday, April 17, 2017, from 1:30 p.m. until 5 p.m., Tuesday, April 18, 2017, from 9 a.m. until 5 p.m., and Wednesday, April 19, 2017, from 9 a.m. until 12 p.m.

The Mackerel Cobia and Cobia Sub-Panel AP meeting will be held Wednesday, April 19, 2017, from 1:30 p.m. until 5 p.m. and Thursday, April 20, 2017, from 9 a.m. until 5 p.m.

The Dolphin Wahoo AP meeting will be held Friday, April 21, 2017, from 9 a.m. until 2:30 p.m.

ADDRESSES:

Meeting address: The meetings will be held at the Crowne Plaza Hotel, 4831 Tanger Outlet Blvd., North Charleston, SC 29418.

Council address: South Atlantic Fishery Management Council, 4055 Faber Place Drive, Suite 201, N. Charleston, SC 29405.

FOR FURTHER INFORMATION CONTACT: Kim Iverson, Public Information Officer, South Atlantic Fishery Management Council, 4055 Faber Place Drive, Suite 201, N. Charleston, SC 29405; phone: (843) 571-4366 or toll free (866) SAFMC-10; fax: (843) 769-4520; email: kim.iverson@safmc.net.

SUPPLEMENTARY INFORMATION:

Snapper Grouper Advisory Panel

The Snapper Grouper AP will receive an update on the status of amendments to the Snapper Grouper Fishery Management Plan (FMP) recently approved by the Council and submitted for Secretarial review. In addition, the AP members will review and provide recommendations on actions in draft Amendment 43 to the Snapper Grouper Fishery Management Plan (FMP) addressing management measures for red snapper and recreational reporting, Vision Blueprint Regulatory Amendment 26 (Recreational measures), and Vision Blueprint Regulatory Amendment 27 (Commercial measures). The Vision Blueprint amendments are being developed to address management needs identified in the Council's 2016-2020 Vision Blueprint for the snapper grouper fishery.

Other discussion items include a review of the Council's Research Priorities and updates on on-going projects/programs including the Southeast Data, Assessment and Review (SEDAR) stock assessment program, socio-economic characterization of the commercial snapper grouper fishery, the Council's Citizen Science Program and the Charter Vessel Reporting Pilot Project. The AP will provide recommendations for Council consideration as appropriate.

Mackerel Cobia Advisory Panel and Cobia Sub-Panel

The Mackerel Cobia AP and Cobia Sub-Panel will meet jointly. The AP and Cobia Sub-Panel will receive updates and discuss management issues pertaining to cobia including Atlantic cobia recreational fishing seasons, ongoing cobia research, permit requirements for commercial harvest of cobia in the Mid-Atlantic and South Atlantic (including the east coast of Florida), cobia bag limits for the east coast of Florida, and input on fishery performance. The AP and Sub-Panel will also receive updates and discuss management measures relative to king and Spanish mackerel including limited entry for federal commercial permits for Spanish mackerel and possible gear endorsements and modifications to gill net size for the Spanish mackerel fishery. The AP and Sub-Panel will discuss latent permits in the commercial king mackerel fishery and trip limits for king mackerel on Spanish mackerel gillnet trips. The AP and Sub-Panel will provide recommendations as appropriate.

Dolphin Wahoo Advisory Panel

The Dolphin Wahoo AP will receive a presentation on recent findings from the Dolphinfish Research Program and updates on recent Council actions relative to Amendment 10 to the Dolphin Wahoo Fishery Management Plan. The amendment includes actions to address Optimum Yield for the dolphin fishery, revise the recreational Annual Catch Target for dolphin, establish a commercial Annual Catch Target for dolphin, allow adaptive management of sector annual catch limits for dolphin, revise accountability measures for dolphin, revise the acceptable biological catch control rule for dolphin and wahoo, allow vessels with gear onboard that are not authorized for use in the dolphin fishery to possess dolphin or wahoo, and removes the Operator Card requirement. The AP will also discuss potential items to include in future amendments to the Dolphin Wahoo Fishery Management Plan. The AP will provide recommendations as appropriate.

Special Accommodations

These meetings are accessible to people with disabilities. Requests for auxiliary aids should be directed to the SAFMC office (see ADDRESSES) at least 5 business days prior to the meeting.

Note: The times and sequence specified in this agenda are subject to change.

Authority: 16 U.S.C. 1801 et seq.

Dated: March 17, 2017.
Jeffrey N. Lonergan,
Acting Deputy Director, Office of Sustainable Fisheries, National Marine Fisheries Service.

[FR Doc. 2017-05678 Filed 3-21-17; 8:45 am]

BILLING CODE 3510-22-P